DEPARTMENT OF AGRICULTURE

Forest Service

Coconino Resource Advisory Committee

AGENCY: Forest Service, USDA.

ACTION: Notice of meeting.

SUMMARY: The Coconino Resource Advisory Committee will meet in Flagstaff, Arizona, to finalize the Project Submission Form, Project Evaluation Checklist, and discuss any additional last minute items to prepare to hear proposals in the future. No proposals will be heard at this meeting.

DATES: The meeting will be held January 27, 2011, beginning at 1 p.m. to approximately 4 p.m.

ADDRESSES: The meeting will be held in the Ponderosa Room of the Coconino County Health Department, 2625 N. King St., Flagstaff, Arizona 86004. Send written comments to Brady Smith, RAC Coordinator, Coconino Resource Advisory Committee, c/o Forest Service, USDA, 1824 S. Thompson St., Flagstaff, Arizona 86001 or electronically to bradysmith@fs.fed.us.

FOR FURTHER INFORMATION CONTACT: Brady Smith, Coconino National Forest, (928) 527-3490.

SUPPLEMENTARY INFORMATION: Agenda items for this meeting include (1) Public Comment Period; (2) Project Submission Form discussion and finalization; (3) Project Evaluation Checklist discussion and finalization. The meeting is open to the public.

Dated: December 27, 2010.
Paul Flanagan,
Acting Forest Supervisor, Coconino National Forest.

[FR Doc. 2010-33095 Filed 12-30-10; 8:45 am]

BILLING CODE 3410-11-P